DEPARTMENT OF ENERGY

Federal Energy Regulatory Commission

Combined Notice of Filings #1

Take notice that the Commission received the following electric rate filings:

Docket Numbers: ER10-1623-009.

Applicants: Tenaska Frontier Partners, Ltd.

Description: Notice of Change in Status of Tenaska Frontier Partners, Ltd.

Filed Date: 7/31/25.

Accession Number: 20250731-5229.

Comment Date: 5 p.m. ET 8/21/25.

Docket Numbers: ER10-2579-006.

Applicants: NorthPoint Energy Solutions Inc.

Description: Notice of Non-Material Change in Status of NorthPoint Energy Solutions, Inc.

Filed Date: 7/31/25.

Accession Number: 20250731-5222.

Comment Date: 5 p.m. ET 8/21/25.

Docket Numbers: ER10-3069-012; ER10-3070-012.

Applicants: Alcoa Power Marketing LLC, Alcoa Power Generating Inc.

Description: Notice of Non-Material Change in Status of Alcoa Power Generating Inc., et al.

Filed Date: 7/31/25.

Accession Number: 20250731-5227.

Comment Date: 5 p.m. ET 8/21/25.

Docket Numbers: ER11-3376-015.

Applicants: North Hurlburt Wind, LLC.

Description: Market: Updated Market-Power Analysis, Notice of Change in Status & Revised MBR Tariff to be effective 8/1/2025.

Filed Date: 7/31/25.

Accession Number: 20250731-5187.

Comment Date: 5 p.m. ET 9/29/25.

Docket Numbers: ER11-3378-016.

Applicants: South Hurlburt Wind, LLC.

Description: Market: Updated Market Power Analysis, Notice of Change in Status & Revised MBR Tariff to be effective 8/1/2025.

Filed Date: 7/31/25.

Accession Number: 20250731-5189.

Comment Date: 5 p.m. ET 9/29/25.

Docket Numbers: ER11-3731-009.

Applicants: LWP Lessee, LLC.

Description: Notice of Change in Status of LWP Lessee, LLC.

Filed Date: 7/31/25.

Accession Number: 20250731-5226.

Comment Date: 5 p.m. ET 8/21/25.

Docket Numbers: ER15-793-004.

Applicants: Southern Indiana Gas and Electric Company, Inc.

Description: Notice of Change in Status of Southern Indiana Gas and Electric Company.

Filed Date: 7/30/25.

Accession Number: 20250730-5229.

Comment Date: 5 p.m. ET 8/20/25.

Docket Numbers: ER19-842-005; ER24-134-004.

Applicants: Three Rivers District Energy, LLC, Energy Center Paxton LLC.

Description: Notice of Change in Status of Energy Center Paxton LLC, et al.

Filed Date: 7/31/25.

Accession Number: 20250731-5231.

Comment Date: 5 p.m. ET 8/21/25.

Docket Numbers: ER19-1634-005; ER10-2196-010; ER13-1141-008; ER13-1142-008; ER13-1143-011; ER13-1144-011; ER17-1849-009; ER19-1009-004; ER19-1633-005; ER19-1638-005; ER20-844-006; ER20-2452-011; ER20-2453-012.

Applicants: Hamilton Patriot LLC, Hamilton Liberty LLC, Hamilton Projects Acquiror, LLC, Tiverton Power LLC, Rumford Power LLC, Revere Power, LLC, Nautilus Power, LLC, Essential Power Rock Springs, LLC, Essential Power OPP, LLC, Essential Power Newington, LLC, Essential Power Massachusetts, LLC, Lakewood Cogeneration, L.P., Bridgeport Energy LLC.

Description: Notice of Non-Material Change in Status of Bridgeport Energy LLC et al.

Filed Date: 7/30/25.

Accession Number: 20250730-5224.

Comment Date: 5 p.m. ET 8/20/25.

Docket Numbers: ER19-1865-004; ER19-1866-004; ER19-1867-004; ER19-1868-004; ER19-1869-004; ER19-1870-004; ER19-1871-004; ER19-1872-004; ER19-2140-005; ER19-2141-005; ER19-2142-005; ER19-2143-005; ER19-2144-005; ER19-2145-005; ER19-2146-005; ER19-2147-005; ER19-2148-006.

Applicants: Heritage Power Marketing, LLC, Mountain Power, LLC, Warren Generation, LLC, Portland Power, LLC, Sayreville Power, LLC, Gilbert Power, LLC, Brunot Island Power, LLC, New Castle Power, LLC, Shawville Power, LLC, Tolna Power, LLC, Titus Power, LLC, Shawnee Power, LLC, Orrtanna Power, LLC, Niles Power, LLC, Hunterstown Power, LLC, Hamilton Power, LLC, Blossburg Power, LLC.

Description: Notice of Change in Status of Blossburg Power, LLC, et al.

Filed Date: 7/30/25.

Accession Number: 20250730-5225.

Comment Date: 5 p.m. ET 8/20/25.

Docket Numbers: ER20-55-005; ER21-772-005; ER24-1651-003.

Applicants: Renew Home VPP, LLC, Resi Station, LLC, OhmConnect, Inc.

Description: Notice of Change in Status of OhmConnect, Inc., et al.

Filed Date: 7/31/25.

Accession Number: 20250731-5223.

Comment Date: 5 p.m. ET 8/21/25.

Docket Numbers: ER20-2881-004; ER21-110-002.

Applicants: Harts Mill TE Holdings LLC, Harts Mill Solar, LLC.

Description: Notice of Change in Status of Harts Mill Solar, LLC, et al.

Filed Date: 7/31/25.

Accession Number: 20250731-5233.

Comment Date: 5 p.m. ET 8/21/25.

Docket Numbers: ER21-445-005.

Applicants: Hill Top Energy Center LLC.

Description: Notice of Non-Material Change in Status of Hill Top Energy Center LLC.

Filed Date: 7/30/25.

Accession Number: 20250730-5226.

Comment Date: 5 p.m. ET 8/20/25.

Docket Numbers: ER23-1277-007.

Applicants: Aron Energy Prepay 23 LLC.

Description: Notice of Non-Material Change in Status of Aron Energy Prepay 23 LLC.

Filed Date: 7/31/25.

Accession Number: 20250731-5228.

Comment Date: 5 p.m. ET 8/21/25.

Docket Numbers: ER24-1345-001; ER24-1346-001.

Applicants: RB Inyokern Solar WDAT 1203 LLC, RB Inyokern Solar WDAT 1281 LLC.

Description: Notice of Change in Status, Notice of Change in Category Seller Status of Southwest Region, and Triennial Market Power Update for the Southwest Region of RB Inyokern Solar WDAT 1281 LLC, et al.

Filed Date: 7/31/25.

Accession Number: 20250731-5224.

Comment Date: 5 p.m. ET 8/21/25.

Docket Numbers: ER24-2984-001.

Applicants: Ridgely Energy Farm, LLC.

Description: Notice of Non-Material Change in Status of Ridgely Energy Farm, LLC.

Filed Date: 7/31/25.

Accession Number: 20250731-5225.

Comment Date: 5 p.m. ET 8/21/25.

Docket Numbers: ER24-3059-002.

Applicants: Dan's Mountain Wind Force, LLC.

Description: Notice of Change in Status of Dan's Mountain Wind Force, LLC.

Filed Date: 7/30/25.

Accession Number: 20250730-5228.

Comment Date: 5 p.m. ET 8/20/25.

Docket Numbers: ER25-705-001.

Applicants: Green River Solar, LLC.

Description: Notice of Change in Status of Green River Solar, LLC.

Filed Date: 7/31/25.

Accession Number: 20250731-5232.

Comment Date: 5 p.m. ET 8/21/25.

Docket Numbers: ER25-2792-001.

Applicants: Midcontinent Independent System Operator, Inc., American Transmission Company LLC.

Description: Tariff Amendment: American Transmission Company LLC submits tariff filing per 35.17(b): 2025-08-01_SA 4333 ATC-Degas Sub 1st Rev ESA to be effective 7/8/2025.

Filed Date: 8/1/25.

Accession Number: 20250801-5039.

Comment Date: 5 p.m. ET 8/22/25.

Docket Numbers: ER25-3063-000.

Applicants: New Wave Energy, LLC.

Description: 205(d) Rate Filing: Change in Status, Change in Category Seller Status, & Revised MBR Tariff to be effective 8/1/2025.

Filed Date: 7/31/25.

Accession Number: 20250731-5212.

Comment Date: 5 p.m. ET 8/21/25.

Docket Numbers: ER25-3064-000.

Applicants: California Independent System Operator Corporation.

Description: 205(d) Rate Filing: 2025-07-31 Fourth Amendment to MEEA between CAISO and SMUD to be effective 10/17/2025.

Filed Date: 7/31/25.

Accession Number: 20250731-5218.

Comment Date: 5 p.m. ET 8/21/25.

Docket Numbers: ER25-3065-000.

Applicants: ISO New England Inc., Fitchburg Gas and Electric Light Company.

Description: 205(d) Rate Filing: Fitchburg Gas and Electric Light Company submits tariff filing per 35.13(a)(2)(iii: FG&E; Post-Retirement Benefits Other Than Pensions Expense Refund Report to be effective 10/1/2025.

Filed Date: 8/1/25.

Accession Number: 20250801-5016.

Comment Date: 5 p.m. ET 8/22/25.

Docket Numbers: ER25-3066-000.

Applicants: UGI Utilities, Inc., UGI Utilities Inc.

Description: 205(d) Rate Filing: UGI Utilities Inc. submits tariff filing per 35.13(a)(2)(iii: UGIU submits Formula Rate—Depreciation Rate Revision to be effective 10/1/2025.

Filed Date: 8/1/25.

Accession Number: 20250801-5031.

Comment Date: 5 p.m. ET 8/22/25.

Take notice that the Commission received the following public utility holding company filings:

Docket Numbers: PH25-15-000.

Applicants: BCP Fund UGP, LLC.

Description: BCP Fund UGP, LLC submits FERC-65A Notice of Change in Fact to Waiver Notification.

Filed Date: 7/31/25.

Accession Number: 20250731-5230.

Comment Date: 5 p.m. ET 8/21/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Dated: August 1, 2025.
Debbie-Anne A. Reese,
Secretary.

[FR Doc. 2025-14913 Filed 8-5-25; 8:45 am]

BILLING CODE 6717-01-P